DEPARTMENT OF TRANSPORTATION

Federal Aviation Administration

14 CFR Part 141

[Docket No. FAA-2010-0100; Amdt. No. 141-17A]

RIN 2120-AJ67

Pilot Certification and Qualification Requirements for Air Carrier Operations; Correction

AGENCY: Federal Aviation Administration, DOT.

ACTION: Final rule; correction.

SUMMARY: The FAA is correcting a final rule published on July 15, 2013 (78 FR 42324). In that final rule, which became effective on the date of publication, the FAA amended its regulations to create new certification and qualification requirements for pilots in air carrier operations. The FAA inadvertently listed an incorrect amendment number for that final rule. This document corrects that error.

DATES: Effective: August 28, 2013.

FOR FURTHER INFORMATION CONTACT: For technical questions concerning this correction contact Barbara Adams, Air Transportation Division, AFS-200, Federal Aviation Administration, 800 Independence Avenue SW., Washington, DC 20591; telephone (202) 267-8166; facsimile (202) 267-5299, email barbara.adams@faa.gov.

For legal questions concerning this correction contact Anne Moore, Office of the Chief Counsel—International Law, Legislation, and Regulations Division, AGC-240, Federal Aviation Administration, 800 Independence Avenue SW., Washington, DC 20591; telephone (202) 267-3123; facsimile (202) 267-7971, email anne.moore@faa.gov.

SUPPLEMENTARY INFORMATION:

Background

On July 15, 2013, the FAA published a final rule entitled, “Pilot Certification and Qualification Requirements for Air Carrier Operations” (78 FR 42324). In that final rule, which became effective July 15, 2013, the FAA amended part 141. The FAA inadvertently listed the incorrect amendment number for part 141 in the header information of the final rule as 141-1. The correct amendment number is 141-17.

Correction

In the final rule, FR Doc. 2013-16849, published on July 15, 2013, at 78 FR 42324, make the following correction:

1. On page 42324 in the heading of the final rule, revise “Amdt. No. 141-1” to read as “Amdt. No. 141-17”.

Issued in Washington, DC, under the authority provided by 49 U.S.C. 106(f), 44701(a) and Secs. 216-217, Public Law 111-216, 124 Stat. 2348 on August 23, 2013.
Brenda D. Courtney,
Acting Director, Office of Rulemaking.

[FR Doc. 2013-20962 Filed 8-27-13; 8:45 am]

BILLING CODE 4910-13-P